DEPARTMENT OF COMMERCE

Foreign-Trade Zones Board

[B-87-2012]

Foreign-Trade Zone 75—Phoenix, Arizona Application for Expansion (New Magnet Site) Under Alternative Site Framework

An application has been submitted to the Foreign-Trade Zones (FTZ) Board (the Board) by the City of Phoenix, grantee of Foreign-Trade Zone 75, requesting authority to expand its zone under the alternative site framework (ASF) adopted by the Board (15 CFR 400.2(c)) to include a new magnet site in Phoenix, Arizona. The application was submitted pursuant to the Foreign-Trade Zones Act, as amended (19 U.S.C. 81a-81u) and the regulations of the Board (15 CFR part 400). It was formally docketed on December 7, 2012.

FTZ 75 was approved by the Board on March 25, 1982 (Board Order 185, 47 FR 14931, 04/07/82), and was expanded on July 2, 1993 (Board Order 647, 58 FR 37907, 07/14/93), on February 27, 2008 (Board Order 1545, 73 FR 13531, 03/13/08), and on March 23, 2010 (Board Order 1672). FTZ 75 was reorganized under the ASF on October 7, 2010 (Board Order 1716, 75 FR 64708-64709, 10/20/2010). The zone project currently has a service area that includes all of Maricopa County and portions of Pinal and Yavapai Counties, Arizona.

The current zone project includes the following magnet sites: Site 1 (338 acres)—within the 550-acre Phoenix Sky Harbor Center and adjacent air cargo terminal at the Phoenix Sky Harbor International Airport, Phoenix; Site 2 (18 acres)—CC&F South Valley Industrial Center, 7th Street and Victory Street, Phoenix; Site 3 (74 acres)—Riverside Industrial Center, 4750 W. Mohave Street, Phoenix; Site 4 (18 acres)—Santa Fe Business Park, 47th Avenue and Campbell Avenue, Phoenix; and, Site 5 (32.5 acres)—the jet fuel storage and distribution system at and adjacent to the Phoenix Sky Harbor International Airport, Phoenix. Since approval of the reorganization of the zone under the ASF, three usage-driven sites have been approved: Site 6 (31.1 acres)—Western Digital, LLC, 1000-1100 East Bell Road, Phoenix; Site 7 (5.7 acres)—Michael Lewis Company, 2021 East Jones Avenue, Phoenix; and, Site 8 (9.47 acres)—The Gap, Inc., 2225 South 75th Avenue, Phoenix.

The applicant is now requesting authority to expand its zone project to include an additional magnet site: Proposed Site 9 (155 acres)—Prologis Park Riverside, 3202 South 55th Avenue and 5555 West Lower Buckeye Road, Phoenix. The proposed new site is located within Phoenix, Arizona U.S. Customs and Border Protection Ports of Entry.

In accordance with the Board's regulations, Christopher Kemp of the FTZ Staff is designated examiner to evaluate and analyze the facts and information presented in the application and case record and to report findings and recommendations to the Board.

Public comment is invited from interested parties. Submissions shall be addressed to the Board's Executive Secretary at the address below. The closing period for their receipt is February 12, 2013. Rebuttal comments in response to material submitted during the foregoing period may be submitted during the subsequent 15-day period to February 27, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For Further Information Contact: Christopher Kemp at Christopher.Kemp@trade.gov or (202) 482-0862.

Dated: December 7, 2012.
Andrew McGilvray,
Executive Secretary.

[FR Doc. 2012-30220 Filed 12-13-12; 8:45 am]

BILLING CODE P